FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Sunny International Logistics Inc. dba Sunny Line 812 South Stoneman Ave., #A Alhambra, CA 91801 Officers: Yan Yun Sang, Vice President (Qualifying Individual) Sunny Pang, President.

Richfield Logistics, Inc. 939 Dodsworth Avenue Covina, CA 91724 Officers: Lyndon L.S. Fan, Vice President (Qualifying Individual) Daqiang Lin, President.

Trans World Freight Services, Inc. dba Trans Young Shipping Co. 165-55 148th Avenue Jamaica, NY 11434 Officers: Dal Pyo Lee, President (Qualifying Individual) Yeau Myung Yoon, Secretary.

Pacific-Net Logistics Inc. 1490 W. Walnut Parkway Compton, CA 90220 Officers: Kin Lau, Chief Operation Officer (Qualifying Individual) Michael Tsang, C.E.O.

Non-Vessel Operating Common Carrier and Ocean Freight Forwarder Transportation Intermediary Applicants:

WK Trading & Cargo, Inc. 4055 NW 79th Avenue Miami, FL 33166 Officers: Julia Batista, Operation/Sales (Qualifying Individual) Walter Lavigne, President.

El Capitan International Inc. 2470 N.W. 102 Place, #104 Miami, FL 33172 Officer: Teresita Rodriguez-Adan, V.P. Operations (Qualifying Individual).

Interfreight Harmonized Logistics Inc. 221 Sheridan Blvd. Inwood, NY 11096 Officers: Ian C. Wilcken, Manager (Qualifying Individual) Thomas Staub, President.

Ocean Freight Forwarder—Ocean Transportation Intermediary Applicants:

American Royal Shipping Line 14823 Elmont Drive Houston, TX 77095 M. Bashir Sarakbi Sole Proprietor.

Prince International Trading, LLC 9720 NW 114 Way, Suite 100 Miami, FL 33178 Officers: Mirgani O. Elgaali, President (Qualifying Individual) Nada M. Bushara, Vice President.

EP International Shipping 4570 Eucalyptus Avenue, Unit E Chino, CA 91710 Elliott C. Penalosa Sole Proprietor.

Dated: March 1, 2002.
Theodore A. Zook,
Assistant Secretary.

[FR Doc. 02-5359 Filed 3-6-02; 8:45 am]

BILLING CODE 6730-01-P